NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: February 8, 2011, 9 a.m.-5:30 p.m. February 9, 2011, 9 a.m.-2 p.m.

Place: Arlington, Virginia 22203. Additional meeting location information will be available at http://www.nsf.gov/od/oia/activities/ceose/index.jsp.

Type of Meeting: Open.

Contact Person: Dr. Margaret E.M. Tolbert, Senior Advisor and CEOSE Executive Liaison Office of Integrative Activities, National Science Foundation, 4201 Wilson Boulevard Arlington, VA 22230. Telephone Numbers: (703) 292-4216, 703-292-8040 mtolbert@nsf.gov.

Minutes: Minutes may be obtained from the Executive Liaison at the above address or the Web site at http://www.nsf.gov/od/oia/activities/ceose/index.jsp.

Purpose of Meeting: To study NSF programs and policies and provide advice and recommendations to the National Science Foundation (NSF) concerning broadening participation in science and engineering.

Agenda:

Tuesday and Wednesday, February 8-9, 2011

Opening Statement by the CEOSE Chair.

Remarks by the Interim Director of the NSF Office of Integrative Activities.

Presentations and Discussions:

✓ Discussion of Plans for the Mini-Symposium on the Science of Broadening Participation

✓ Reports from CEOSE Liaisons to NSF Advisory Committees

✓ Discussion of NSF Responses to CEOSE Recommendations

✓ Review of the Draft “2009-2010 CEOSE Biennial Report to Congress”

✓ Conversation with Dr. Subra Suresh, Director, National Science Foundation

✓ Report on OISE Technical Support to Minority Serving Institutions

✓ Update on the National Science Board Study of the NSF Merit Review Criteria

✓ The State of the National Science Foundation Relative to Diversity and Inclusion

✓ Discussion of Unfinished Business

Dated: January 19, 2011.
Susanne Bolton,
Committee Management Officer.

[FR Doc. 2011-1344 Filed 1-21-11; 8:45 am]

BILLING CODE 7555-01-P